DEPARTMENT OF LABOR

Employment and Training Administration

[TA-W-73,562]

Colville Indian Plywood and Veneer, Colville Tribal Enterprise Corporation Wood Products Division, Including On-Site Workers from Colville Tribal Construction and On-Site Contract Workers from C & K General Contractor, Doran Richter Logging, ERB Corporation, Francis L. Seymour, Gene Matt Trucking, George Marchand, Havillah Logging, Joe Peone, Joe Somday Logging, Jus'n Logging, Laramie Logging, Lone Rock Contracting, Mawdsley Logging, Mccuen Jones, San Poil Logging, Scott Thorndike, Silver Nichol Trucking and Stensgar Logging, Omak, WA; Amended Certification Regarding Eligibility To Apply for Worker Adjustment Assistance

In accordance with Section 223 of the Trade Act of 1974, as amended (“Act”), 19 U.S.C. 2273, the Department of Labor issued a Certification of Eligibility to apply for Worker Adjustment Assistance on May 20, 2010, applicable to workers of Colville Indian Plywood and Veneer, Colville Tribal Enterprise Corporation Wood Products Division, Omak, Washington. The Department's Notice was published in the Federal Register on June 7, 2010 (75 FR 32223). The certification was amended on June 30, 2010 to include on-site contract worker firms. The Department's Notice of amended certification was published in the Federal Register on July 19, 2010 (75 FR 41896-41897).

At the request of the Washington State Labor Council, AFL-CIO, and the State agency, the Department reviewed the certification for workers of the subject firm. The workers are engaged in activities related to the production of boards and dimensional lumber of ponderosa pine.

The company reports that workers of Colville Tribal Construction were employed on-site at the Omak, Washington location of Colville Indian Plywood and Veneer, Colville Tribal Enterprise Corporation Wood Products Division, to perform construction, electrical and operational maintenance support functions. The Department has determined that these workers were sufficiently under the control of the subject firm to be included in this certification.

Based on these findings, the Department is amending this certification to include employees of Colville Tribal Construction working on-site at the Omak, Washington location of Colville Indian Plywood and Veneer, Colville Tribal Enterprise Corporation Wood Products Division.

The amended notice applicable to TA-W-73,596 is hereby issued as follows:

“All workers of Colville Indian Plywood and Veneer, Colville Tribal Enterprise Corporation Wood Products Division, including on-site workers from Colville Tribal Construction and on-site contract workers from C & K General Contractor, Doran Richter Logging, Erb Corporation, Francis L. Seymour, Gene Matt Trucking, George Marchand, Havillah Logging, Joe Peone, Joe Somday Logging, Jes'N Logging, Laramie Logging, Lone Rock Contracting, Mawdsley Logging, McCuen Jones, San Poil Logging, Scott Thorndike, Silver Nichol Trucking and Stensgar Logging, Omak, Washington, who became totally or partially separated from employment on or after February 24, 2009, through May 20, 2012, and all workers in the group threatened with total or partial separation from employment on the date of certification through two years from the date of certification, are eligible to apply for adjustment assistance under Chapter 2 of Title II of the Trade Act of 1974, as amended.”

Signed in Washington, DC, this 9th day of June 2011.
Del Min Amy Chen,
Certifying Officer, Office of Trade Adjustment Assistance.

[FR Doc. 2011-15081 Filed 6-16-11; 8:45 am]

BILLING CODE 4510-FN-P